DEPARTMENT OF HOUSING AND URBAN DEVELOPMENT

[Docket No. FR-5609-N-11]

Notice of Proposed Information Collection for Public Comment: Neighborhood Stabilization Program Tracking Study

AGENCY: Office of the Assistant Secretary for Policy Development and Research, HUD.

ACTION: Notice.

SUMMARY: The proposed information collection requirement described below will be submitted to the Office of Management and Budget (OMB) for review, as required by the Paperwork Reduction Act. The Department is soliciting public comments on the subject proposal.

DATES: Comment Due Date: November 9, 2012.

ADDRESSES: Interested persons are invited to submit comments regarding this proposal. Comments should refer to the proposal by name and/or OMB Control Number and should be sent electronically to jmailto:udson.l.james@hud.gov or in hard copy to: Judson L. James, Office of Policy Development and Research, Department of Housing and Urban Development, 451 7th Street SW., Room 8120, Washington, DC 20410-6000. Please use “NSP PRA Comment” in the subject line of any email.

FOR FURTHER INFORMATION CONTACT: Judson L. James at 202-402-5707 (this is not a toll-free number) or judson.l.jamesmailto:@hud.gov, for copies of the proposed forms and other available documents. Please use “NSP PRA Comment” in the subject line of any email.

SUPPLEMENTARY INFORMATION: The Department of Housing and Urban Development will submit the proposed extension of information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of responses. This Notice also lists the following information:

Title of Proposal: Site Visit Protocols for Neighborhood Stabilization Program (NSP2) Evaluation; Second Round.

OMB Control Number:

Description of the Need for the Information and Proposed Use: The U.S. Department of Housing and Urban Development (HUD) is conducting an important national study of the Neighborhood Stabilization Program (NSP), with a particular focus on the round of funding from the American Recovery and Reinvestment Act (ARRA), known as “NSP2.” This information collection will constitute the second round of site visits and interviews of NSP2 grantees, as well as collection of grantees' property-level data on NSP2 activities conducted. The information collected will be used to describe how program implementation occurred in practice, gather views of what program outcomes and impacts have occurred, and explore factors that contributed to program outcomes.

Agency Form Numbers:

Members of the Affected Public: A total of 29 NSP2 grantees (25 local and 4 national) and 50 partner agencies will be part of the study. Staff of these grantees will be asked to participate in interviews with HUD's contractor and to provide HUD's contractor with access to their records for tracking program activity. Local interviews will take approximately 2 hours per person and will be administered to approximately 4 staff per NSP2 grantee and 4 additional staff among partner agencies. Interviews with national grantees will be administered to approximately 2 staff per NSP2 grantee.

Property-level data will be compiled either by grantee representatives or by a HUD contractor. Approximately one-half of the 29 grantees (or 14 grantees) and 25 partner organizations will likely chose to report the required data themselves via the study's preformatted spreadsheet. HUD estimates that each spreadsheet will take one person about 1.5 working days (12 hours) to complete, on average.

For the remaining 15 grantees and 25 partner organizations, the data will be compiled by the research team with the support of local representatives. The majority of this effort will be conducted by the researcher. HUD estimates that it will take approximately two hours per grantee and partner organization to provide access to records during this time (e.g., pulling the appropriate files).

Estimation of the total number of hours needed to prepare the information collection including number of respondents, frequency of response, and hours of response: The following chart details the respondent burden on a quarterly and annual basis:

| Number of entities | Responses per entity | Hours per response | Total hours
Interviews: Local NSP grantees | 25 | 4 | 2 | 200
Interviews: Local Partner agencies | 50 | 4 | 2 | 400
Interviews: National NSP2 grantees | 4 | 2 | 2 | 16
Providing Access to Records | 40 | 1 | 2 | 80
Compiling Records | 39 | 1 | 12 | 468

Status of the proposed information collection: Pending OMB approval.

Authority: Section 3506 of the Paperwork Reduction Act of 1995, 44 U.S.C. Chapter 35, as amended.

Dated: August 31, 2012.
Erika C. Poethig,
Assistant Secretary for Policy Development and Research.

[FR Doc. 2012-22213 Filed 9-7-12; 8:45 am]

BILLING CODE 4210-67-P